DEPARTMENT OF HEALTH AND HUMAN SERVICES

Administration for Community Living

Agency Information Collection Activities; Proposed Collection; Public Comment Request; Evaluation of the State Health Insurance Assistance Program (SHIP)

AGENCY: Administration for Community Living, HHS.

ACTION: Notice.

SUMMARY: The Administration for Community Living (ACL) is announcing that the proposed collection of information listed above has been submitted to the Office of Management and Budget (OMB) for review and clearance under the Paperwork Reduction Act of 1995.

DATES: Comments must be received by December 8, 2016.

ADDRESSES: Submit written comments on the collection of information by fax 202.395.5806 or by email to OIRA_submission@omb.eop.gov, Attn: OMB Desk Officer for ACL.

FOR FURTHER INFORMATION CONTACT: Katherine Glendening by phone: 202-795-7350 or email: Katherine.Glendening@acl.hhs.gov.

SUPPLEMENTARY INFORMATION: In compliance with section 44 U.S.C. 3507, ACL has submitted the following proposed collection of information to OMB for review and clearance.

Proposed Collection: Evaluation of the State Health Insurance Assistance Program (SHIP), U.S. Department of Health and Human Services (HHS), U.S. Administration for Community Living (ACL).

Need and Use of Information Collection: The SHIP Customer Satisfaction Survey is a survey of individuals who meet with State Health Insurance Assistance Program (SHIP) Counselors to better understand their Medicare options. SHIP provides free, one-on-one counseling to the public, and the SHIP Customer Satisfaction Survey will be used to measure individuals' satisfaction with their counseling experience.

The State Health Insurance Assistance Program (SHIP) was created under Section 4360 of the Omnibus Budget Reconciliation Act (OBRA) of 1990 (P.L. 101-508). SHIP was created to provide grant funding to states/territories, who in turn provide “. . . information, counseling, and assistance . . . to individuals who are eligible to receive benefits under title XVIII of the Social Security Act” (Medicare). SHIP grants help Medicare beneficiaries and their families to obtain information about topics, such as Medicare enrollment (Parts A and B), Medicare Advantage plans (Part C), prescription drug coverage (Part D), Medicare Savings Programs (MSPs), supplemental insurance policies (Medigap), Medicaid issues, and other health insurance issues. The survey will gauge individuals' satisfaction with the services provided by SHIP counselors. While the SHIP program currently tracks the number of contacts the program makes with individual citizens, as well as descriptive information about counseling sessions such as topic, location, and beneficiary demographics, the program does not track outcome measurements, including customer satisfaction.

Comments in Response to the 60-Day Federal Register Notice

A notice was published in the Federal Register in Vol. 81, No. 124/Tuesday, June 28, 2016, Pages 41974-41975, announcing that ACL was requesting approval of a data collection (ICR New). No comments were received.

Estimated Data Burden

The SHIP survey will be conducted over a three-year period beginning in Fiscal Year 2017 (FY 2017), with sites in each of the 50 states, the District of Columbia and the territories of Guam, Puerto Rico and the U.S. Virgin Islands being surveyed once during the three-year period. Results from the surveys will be used to understand satisfaction among individuals who receive SHIP Medicare assistance/counseling, as well, as how the program can be improved to provide better service to its target population. Eighteen (18) unique states/territories will be surveyed in FY 2017, with each state/territory expected to generate 75 unique responses, for a total of 1,350 individual responses in Year 1. This process will then be replicated in Year 2 (FY 2018) and Year 3 (FY 2019), with a different unique group of 18 states and territories being surveyed each year. By the end of FY19, SHIP will obtain 4,050 completed surveys to measure satisfaction at the state and national levels (18 states/territories × 75 responses per state × 3 years). SHIP will use the following factors to draw a representative sample of beneficiaries who received assistance/counseling:

• Review counseling sessions at two points each year:

○ One week in the spring (outside of the annual Medicare Open Enrollment Period)

○ One week in the fall (during the annual Medicare Open Enrollment Period)

• Focus only on non-redundant individuals (i.e., a random sample without replacement of individuals who receive SHIP counseling).

• Randomly select 18 states and territories to be surveyed each year, with the states/territories stratified by data collection method* and the size of the Medicare-eligible population.

* Data collection method refers to how each state/territory collects and enters its records of counseling sessions. The majority of states/territories (29 of 54) directly enter counseling records into SHIP's National Performance Reporting (NPR) system, but the remaining states/territories upload data in batches at the end of each month. To ensure that the batch upload states/territories will be able to pull weekly samples twice per year, we will limit these states/territories to Years 2 and 3 of the survey administration period, thereby allowing for technical assistance to these states/territories if necessary.

To generate a sample with a 95% confidence level at the national level 384 responses will be required (n = 3,000,000 counseling sessions in 2015). SHIP anticipates collecting 75 completed surveys per state/territory, for a total collection of 4,050 completed surveys over the 3-year period. This larger collection will enable ACL to make state-to-state comparisons, which is an important feature of this survey. Specifically, state-to-state comparisons will allow ACL to identify which states/territories are providing the best services to their beneficiaries, and what best practices can be shared across states/territories. The larger collection will also provide each state/territory with sufficient information to take local action to improve service within budgetary constraints.

The proposed survey instrument may be viewed on the Web site: http://www.acl.gov/Programs/CIP/OHIC/index.aspx.

OMB approval is requested for 3 years. There are no costs to respondents other than their time. The average annual burden associated with these activities is summarized below:

Respondent type | Number of respondents | Responses per respondent | Average burden hours per response (hours) | Total average annual burden (hours)
Stratified Random Sample | 1,350 | 1 | 8/60 | 180

Dated: October 27, 2016.
Edwin L. Walker,
Acting Administrator and Assistant Secretary for Aging.

[FR Doc. 2016-26924 Filed 11-7-16; 8:45 am]

BILLING CODE 4154-01-P